DEPARTMENT OF THE INTERIOR

Bureau of Land Management

WO-880-9500-PF-24-1A

Extension of Approved Information Collection; OMB Number 1004-0109

AGENCY: Bureau of Land Management, Interior.

ACTION: Notice and request for comments.

SUMMARY: In accordance with the Paperwork Reduction Act of 1995, the Bureau of Land Management (BLM) announces its intention to request renewal of approval to collect certain information from the Governors of States to allow the BLM to compute units of payments due to local governments. The Payments in Lieu of Taxes (PILT) Act of September 13, 1982, as amended, requires that the Governor of each State furnish BLM with a listing of payments made to local governments by the State on behalf of the Federal Government under 11 receipt-sharing statutes. This information helps local governments recover some of the expenses incurred by providing services on public lands.

DATE: BLM must receive comments on the proposed information collection by March 24, 2000 to assure consideration.

ADDRESSES: You may mail comments to the Bureau of Land Management, (630), Administrative Record, Room 401 LS, 1849 C Street, NW, Washington, DC 20240. You may also hand deliver comments to Bureau of Land Management, Room 401, 1620 L Street, NW, Washington, DC 20036. To file comments electronically, send your comments via Internet to WOComment@blm.gov. Please include “ATTN: 1004-0109” and your name and return address in your Internet message. BLM will make comments available for public review in Room 401, 1620 L Street, NW, Washington, DC during regular business hours (7:45 a.m. to 4:15 p.m.), Monday through Friday.

FOR FURTHER INFORMATION CONTACT: Bill Howell, Budget Group, (202) 452-7721 (Commercial or FTS). Persons who use a telecommunications device for the deaf (TDD) may call the Federal Information Relay Service at 1-800-877-8339, 24 hours a day, 7 days a week, to contact Mr. Howell about the information collection.

SUPPLEMENTARY INFORMATION: In accordance with 5 CFR 1320.12(a), BLM is required to provide 60-day notice in the Federal Register concerning a collection of information contained in 43 CFR 1880 to solicit comments on (a) whether the proposed collection of information is necessary for the proper performance of the functions of the agency, including whether the information will have practical utility; (b) the accuracy of the agency's estimate of the burden of the proposed collection of information, including the validity of the methodology and assumptions used; (c) ways to enhance the quality, utility, and clarity of the information to be collected; and (d) ways to minimize the burden of the collection of information on those who are to respond, including through the use of appropriated automated, electronic, mechanical, or other technological collection techniques or other forms of information technology. BLM will receive and analyze any comments sent in response to this notice and include them in its request for approval from the Office of Management and Budget under (44 U.S.C. 3501 et seq.).

BLM makes payments in lieu of taxes to units of local governments for certain Federal lands within their boundaries through authority provided by the PILT Act of October 20, 1976 (90 Stat. 2662, 31 U.S.C. 6901-6907). The implementing regulations located at 43 CFR Subpart 1881—Payments in Lieu of Taxes. The Governor of each State or his agent must furnish BLM with a listing of payments made to local governments by the State on behalf of the Federal Government under 11 revenue-sharing laws specified at (31 U.S.C. 6903(a)(1)). BLM provides the States with a printout matrix designed to facilitate recording the requested information. Each printout lists each qualifying unit of local government down the left hand side of the page along with the unit of local government code used by the Census Bureau. Across the top of the printout are columns which indicate each of the revenue Acts. BLM uses the information provided by the States to compute the PILT payments to local governments within the State.

Based on BLM's experience in administering PILT, BLM estimates each State's reporting burden for this information collection to average 20 hours. The respondents already maintain this information for their own record-keeping purposes and need only transfer it to the matrix described above. The estimate includes time for research, time to transcribe and audit the data, and time to prepare the PILT submission. The respondents are offices designated by the Governor of each State, usually the Treasurer's office. The frequency of response is once annually, reporting on the previous fiscal year's revenues. The number of responses per year is 50. The estimated total annual burden on the States collectively is about 1,000 hours.

All responses to this notice will be summarized and included in the request for Office of Management and Budget approval. All comments will also become a matter of public record.

Dated: January 3, 2000.
Carole Smith,
Bureau of Land Management, Information Clearance Officer.

[FR Doc. 00-1607 Filed 1-21-00; 8:45 am]

BILLING CODE 4310-84-M